DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before March 9, 2009. Address written comments to Statutory Import Programs Staff, Room 3720, U.S. Department of Commerce, Washington, D.C. 20230. Applications may be examined between 8:30 A.M. and 5:00 P.M. at the U.S. Department of Commerce in Room 3720.

Docket Number: 08-041. Applicant: University of Colorado, P.O. Box 173364, Campus Box 119, Denver, CO 80217. Instrument: Vitrification Robot. Manufacturer: FEI Company, The Netherlands. Intended Use: The instrument will be used for the preparation of vitrified macromolecular and cellular specimens that will be subsequently examined in an electron microscope under strict cryo-conditions. Application accepted by Commissioner of Customs: August 11, 2008.

Docket Number: 08-052. Applicant: University of Washington, Applied Physics Laboratory, 1013 NE 40th Street, Seattle, WA 98105-6698. Instrument: CTD Chain III. Manufacturer: ADM Electronik, Germany. Intended Use: The instrument will be towed from a large research vessel to study physical phenomena and processes that occur primarily in the upper 500m of the ocean, including internal waves, internal tides, meso-scale eddies, and buoyancy compensated water masses. Application accepted by Commissioner of Customs: September 30, 2008.

Docket Number: 08-056. Applicant: Argonne National Laboratory, 9700 S. Cass Avenue, Lemont, IL 60439. Instrument: Isobar separator system. Manufacturer: Bruker Biospin S.A., France. Intended Use: The instrument will be used to develop new capability to deliver radioactive beams for nuclear physics research. Application accepted by Commissioner of Customs: October 9, 2008.

Dated: February 12, 2009.
Chris Cassel,
Acting Director,IA Subsidies Enforcement Office.

[FR Doc. E9-3401 Filed 2-13-09; 8:45 am]

BILLING CODE 3510-DS-S